DEPARTMENT OF THE INTERIOR

Bureau of Indian Affairs

[167A2100DD/AAKC001030/A0A501010.999900 253G]

Revision of Agency Information Collection for the Bureau of Indian Education Tribal Education Department Grant Program

AGENCY: Bureau of Indian Affairs, Interior.

ACTION: Notice of submission to OMB.

SUMMARY: In compliance with the Paperwork Reduction Act of 1995, the Bureau of Indian Affairs (BIA) has submitted to the Office of Management and Budget (OMB) a request for a revision to a currently approved collection of information for the Tribal Education Department Grant Program, authorized by OMB Control Number 1076-0185. The information collection will expire November 30, 2015.

DATE: Interested persons are invited to submit comments on or before December 30, 2015.

ADDRESSES: You may submit comments on the information collection to the Desk Officer for the Department of the Interior at the Office of Management and Budget, by facsimile to (202) 395-5806 or you may send an email to: OIRA_Submission@omb.eop.gov. Please send a copy of your comments to Wendy Greyeyes, Bureau of Indian Education, Office of the BIE Director, 1849 C Street NW., MIB—Mail Stop 4657, Washington, DC 20240; email Wendy.Greyeyes@bie.edu.

FOR FURTHER INFORMATION CONTACT: Wendy Greyeyes, (202) 208-5810. You may review the information collection requests online at http://www.reginfo.gov. Follow the instructions to review Department of the Interior collections under review by OMB.

SUPPLEMENTARY INFORMATION:

I. Abstract

Under 25 U.S.C. 2020, Congress appropriated funding through the Bureau of Indian Education (BIE) for the development and operation of tribal departments or divisions of education for the purpose of planning and coordinating all educational programs of the tribe. All tribal education departments (TEDs) awarded will provide coordinating services and technical assistance to the school(s) they serve. As required under 25 U.S.C. 2020, for a Federally recognized tribe to be eligible to receive a grant, the tribe shall submit a grant application proposal. Once the grant has been awarded, each awardee will be responsible for quarterly and annual reports. All awardees shall comply with regulations relating to grants made under 25 U.S.C. 450h(a).

II. Request for Comments

On September 1, 2015, Bureau of Indian Education (BIE) published a notice announcing the renewal of this information collection and provided a 60-day comment period in the Federal Register (80 FR 52878). On October, 30, 2015, one tribe responded provided comments but they were not substantive to the collection. Therefore, the BIE did not make any adjustments based on the comment received.

The BIE requests your comments on these collections concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents, such as through the use of automated collection techniques or other forms of information technology.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0185.

Title: Tribal Education Department Grant Program.

Brief Description of Collection: The Secretary of the Interior, through the Bureau of Indian Education, may solicit grant proposals from Federally-recognized tribes and their Tribal Education Departments (TEDs) for projects defined under 25 U.S.C. 2020. These funds are necessary to assist TEDs to improve educational outcomes for students and improve efficiencies and effectiveness by planning and coordinating all educational programs for Bureau-funded schools for the respondent to receive or maintain a benefit.

Type of Review: Revision to a currently approved collection.

Respondents: Federally-recognized tribes and their Tribal Education Departments (TEDs).

Number of Respondents: 13.

Total Number of Responses: 63.

Frequency of Response: One time proposal submission, quarterly, and annual reports.

Obligation to Respond: Response required to obtain or retain a benefit.

Estimated Time per Response: One time proposal submission is 111 hours, 1 hour to prepare a quarterly report, and 2 hours to prepare an annual report.

Estimated Total Annual Hour Burden: 1,503 hours.

Estimated Total Annual Non-Hour Dollar Cost: $5,359.

* * * * *

Elizabeth K. Appel,
Director, Office of Regulatory Affairs and Collaborative Action—Indian Affairs.

[FR Doc. 2015-30305 Filed 11-27-15; 8:45 am]

BILLING CODE 4337-15-P